DEPARTMENT OF HOMELAND SECURITY

Coast Guard

[Docket No. USCG-2007-29046]

Towing Safety Advisory Committee

AGENCY: Coast Guard, DHS.

ACTION: Supplemental notice of meetings.

SUMMARY: On Tuesday, September 4, 2007, the Coast Guard published its intent to hold meetings of the Towing Safety Advisory Committee. This supplemental notice makes an addition to the previous one.

Agenda of Meetings

The Agenda of Committee Meeting for September 19, 2007 was originally published on Tuesday, September 4 at 72 FR 50687. In addition to addressing the issues listed in that Notice, a working group will meet on Tuesday, September 18 to address a new Task Statement No. 07-02 “A Review of the Draft Navigation and Vessel Inspection Circular (NVIC) Concerning Medical and Physical Evaluation Guidelines for Merchant Mariner Credentials.” The working group will make a report to the full Committee on what has been accomplished in their meeting. No final action will be taken on their report at this September 18 working group meeting.

On Wednesday, September 19, the Committee may consider and vote on any recommendations from the working group deliberating the new Task Statement No. 07-02.

Dated: September 4, 2007.
J.G. Lantz,
Director of National and International Standards, Assistant Commandant for Prevention.

[FR Doc. E7-17803 Filed 9-10-07; 8:45 am]

BILLING CODE 4910-15-P